DEPARTMENT OF DEFENSE

Office of the Secretary

[Transmittal Nos. 14-09]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-09 with attached transmittal, policy justification, and Sensitivity of Technology.

Dated: May 9, 2014.
Aaron Siegel,
Alternate OSD Federal Register Liaison Officer, Department of Defense.

Transmittal No. 14-09

Notice of Proposed Issuance of Letter of Offer Pursuant to Section 36(b)(1) of the Arms Export Control Act, as amended

(i) Prospective Purchaser: Brazil

(ii) Total Estimated Value:

Major Defense Equipment* | $ 52 million
Other | $117 million
TOTAL | $169 million

(iii) Description and Quantity or Quantities of Articles or Services under Consideration for Purchase: 16 AGM-84L Harpoon Block II Missiles, 4 CATM-84L Harpoon Block II Captive Air Training Missiles, containers, spare and repair parts, support and test equipment, publications and technical documentation, personnel training and training equipment, U.S. Government and contractor representatives' technical assistance, engineering and logistics support services, and other related elements of logistics support.

(iv) Military Department: Navy (ASP)

(v) Prior Related Cases, if any: None

(vi) Sales Commission, Fee, etc., Paid, Offered, or Agreed to be Paid: None

(vii) Sensitivity of Technology Contained in the Defense Articles or Defense Services Proposed to be Sold: See Attached Annex

(viii) Date Report Delivered to Congress: 06 May 2014

* as defined in Section 47(6) of the Arms Export Control Act.

POLICY JUSTIFICATION

Brazil—AGM-84L Harpoon Block II Missiles

The Government of Brazil has requested a possible sale of 16 AGM-84L Harpoon Block II Missiles, 4 CATM-84L Harpoon Block II Captive Air Training Missiles, containers, spare and repair parts, support and test equipment, publications and technical documentation, personnel training and training equipment, U.S. Government and contractor representatives' technical assistance, engineering and logistics support services, and other related elements of logistics support. The estimated cost is $169 million.

The proposed sale will contribute to the foreign policy and national security of the United States by helping to improve the security of Brazil, which has been, and continues to be, an important force for regional stability and economic progress in South America.

The Brazilian Air Force (BrAF) is in the process of modernizing and upgrading its Anti-Surface Warfare capability on its P-3 aircraft. The modernization will enhance the BrAF P-3's capabilities for its Counter-Transnational Organized Crime efforts, maritime border security, and protection of off-shore assets (fisheries, energy infrastructure, etc).

The proposed sale of this equipment and support will not alter the basic military balance in the region.

The principal contractors will be The Boeing Company in St. Louis, Missouri, and Delex Systems Incorporated in Vienna, Virginia. There are no known offset agreements proposed in connection with this potential sale.

Implementation of this proposed sale will not require the assignment of any additional U.S. Government or contractor representatives to Brazil.

There will be no adverse impact on U.S. defense readiness as a result of this proposed sale.

Transmittal No. 14-09

Notice of Proposed Issuance of Letter of Offer Pursuant to Section 36(b)(1) of the Arms Export Control Act

Annex

Item No. vii

(vii) Sensitivity of Technology:

1. The AGM-84L Harpoon Block II missile system is classified Confidential. The HARPOON missile is a non-nuclear tactical weapon system currently in service in the U.S. Navy and in 28 other foreign nations. It provides a day, night, and adverse weather, standoff air-to-surface capability and is an effective Anti-Surface Warfare missile. The AGM-84L incorporates components, software, and technical design information that are considered sensitive. The following components being conveyed by the proposed sale that are considered sensitive and are classified Confidential include:

a. The Radar Seeker

b. The Guidance Control Unit GPS/INS System

c. Operational Flight Program Software

d. Missile operational characteristics and performance data

These elements are essential to the ability of the Harpoon missile to selectively engage hostile targets under a wide range of operations, tactical and environmental conditions.

2. If a technologically advanced adversary were to obtain knowledge of the specific hardware and software elements, the information could be used to develop countermeasures which might reduce weapon system effectiveness or be used in the development of a system with similar or advanced capabilities.

3. A determination has been made that the recipient country can provide the same degree of protection for the sensitive technology being released as the U.S. Government. This sale is necessary in furtherance of the U.S. foreign policy and national security objectives outlined in the Policy Justification.

4. All defense articles and services listed in this transmittal have been authorized for release and export to the Government of Brazil.

[FR Doc. 2014-11067 Filed 5-13-14; 8:45 am]

BILLING CODE 5001-06-P